INTERNATIONAL TRADE COMMISSION

[USITC SE-06-042]

Government in the Sunshine Act Meeting Notice

Agency Holding the Meeting: United States International Trade Commission.

Time and Date: June 29, 2006 at 11 a.m.

Place: Room 101, 500 E Street, SW., Washington, DC 20436. Telephone: (202) 205-2000.

Status: Open to the public.

Matters to be Considered: 1. Agenda for future meetings: none.

2. Minutes.

3. Ratification List.

4. Inv. Nos. 731-TA-636-638 (Second Review) (Stainless Steel Wire Rod from Brazil, France, and India)—briefing and vote. (The Commission is currently scheduled to transmit its determination and Commissioners' opinions to the Secretary of Commerce on or before July 13, 2006.)

5. Inv. Nos. 701-TA-253 and 731-TA-132, 252, 271, 273, 409, 410, 532-534, and 536 (Second Review) (Certain Pipe and Tube from Argentina, Brazil, India, Korea, Mexico, Taiwan, Thailand, and Turkey)—briefing and vote. (The Commission is currently scheduled to transmit its determination and Commissioners' opinions to the Secretary of Commerce on or before July 18, 2006.)

6. Outstanding action jackets: none.

In accordance with Commission policy, subject matter listed above, not disposed of at the scheduled meeting, may be carried over to the agenda of the following meeting.

By order of the Commission.
Issued: June 20, 2006.
Marilyn R. Abbott,
Secretary to the Commission.

[FR Doc. 06-5666 Filed 6-21-06; 1:54 pm]

BILLING CODE 7020-02-P